COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add services to the Procurement List that will be provided by nonprofit agencies employing persons who are blind or have other severe disabilities, and deletes a product and service previously furnished by such agencies.

Comments Must Be Received On or Before: 6/11/2012.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the services to the Government.

2. If approved, the action will result in authorizing small entities to provide the services to the Government.

3. There are no known regulatory alternatives which would accomplish the objectives of the Javits-Wagner-O'Day Act (41 U.S.C. 8501-8506) in connection with the services proposed for addition to the Procurement List.

Comments on this certification are invited. Commenters should identify the statement(s) underlying the certification on which they are providing additional information.

End of Certification

The following services are proposed for addition to the Procurement List for production by the nonprofit agencies listed:

Services

Service Type/Location: Record Processing Services, Army Medical Department, Patient Administrative Division, MEDCOM, Fort Sam Houston, TX.

NPA: Goodwill Industries of San Antonio, San Antonio, TX.

Contracting Activity: Medcom Health Care Contracting, Fort Sam Houston, TX.

Service Type/Location: Custodial Service, Child Care Facilities, Buildings 615, 616 and 9625, Fort Leonard Wood, MO.

NPA: Challenge Unlimited, Inc., Alton, IL.

Contracting Activity: DEPT OF THE ARMY, W6QM MICC-FT LEONARD WOOD, FORT LEONARD WOOD, MO.

Service Type/Location: Document Destruction Service, U.S. Department of Agriculture, 6200 Jefferson St. NE., Albuquerque, NM.

NPA: Adelante Development Center, Inc., Albuquerque, NM.

Contracting Activity: Department of Agriculture, Natural Resources Conservation Service, Soil Conservation Service, Albuquerque, NM.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the product and service to the Government.

3. There are no known regulatory alternatives which would accomplish the objectives of the Javits-Wagner-O'Day Act (41 U.S.C. 8501-8506) in connection with the product and service proposed for deletion from the Procurement List.

End of Certification

The following product and service are proposed for deletion from the Procurement List:

Product

NSN: 7520-01-585-0981—Calendar, Wall, Monthly Undated/Yearly Dated.

NPA: The Chicago Lighthouse for People Who Are Blind or Visually Impaired, Chicago, IL.

Contracting Activity: General Services Administration, Arlington, VA.

Service

Service Type/Location: Janitorial/Custodial, South Weymouth Naval Air Station: Caretaker Site Office, Naval Air Station, South Weymouth, MA.

NPA: Community Workshops, Inc., Boston, MA.

Contracting Activity: Dept of the Navy, Naval FAC Engineering CMD MID LANT, Norfolk, VA.

Barry S. Lineback,
Director, Business Operations.

[FR Doc. 2012-11412 Filed 5-10-12; 8:45 am]

BILLING CODE 6353-01-P